DEPARTMENT OF ENERGY

Worker Advocacy Advisory Committee Meeting

AGENCY: Department of Energy.

ACTION: Notice of open meeting.

SUMMARY: This notice announces a public meeting of the Worker Advocacy Advisory Committee.

The Federal Advisory Committee Act (Pub. L. 92-463, 86 Stat. 770) requires that notice of this meeting be published in the Federal Register.

DATES: Tuesday, August 28, 2001, 5 p.m. to 8 p.m.; Wednesday, August 29, 2001, 8 a.m. to 3:15 p.m.

ADDRESSES: Double Tree Hotel, 8773 Yates Drive, Westminster, Colorado.

FOR FURTHER INFORMATION CONTACT: Judy Keating, Executive Administrator, Worker Advocacy Advisory Committee, U.S. Department of Energy, EH-8, 1000 Independence Avenue, SW, Washington, DC 20585, Telephone Number 202-586-7551, E-mail: judy.keating@eh.doe.gov.

SUPPLEMENTARY INFORMATION:

Purpose of the Meeting

To provide advice to the Acting Director of the Office of Worker Advocacy of the Department of Energy on implementation of the program to assist workers who have been diagnosed with work-related illnesses. The meeting will open on Tuesday, August 28, with an extended public comment period, in order to provide the Committee with testimony from DOE workers, their families, survivors of DOE workers, as well as union representatives, and others who can provide information on the implementation of the Energy Employees Occupational Illness Compensation Program. The timing of this comment period, at the beginning of the committee meeting, is designed to provide the Committee with information on the program implementation, to be factored into its deliberations during the Committee meeting the following day.

Tentative Agenda of the Committee Meeting

Tuesday, August 28

Extended Public Comment Period

Wednesday, August 29

Reports from Agency Representatives (Department of Labor, Department of Justice, Department of Health and Human Services, Department of Energy)

Invited Presentations/Reports

WAAC Discussion of Issues

Public Comment Period

Next Steps/Path Forward

Public Participation

This meeting is open to the public on a first-come, first-serve basis because of limited seating. Members of the public who would like to make statements during the comment periods may sign up in advance by contacting Judy Keating at the address or telephone listed above, or may sign up at the meeting room between 4:30 p.m. and 7:30 p.m. on August 28. Members of the public who wish to make statements during August 29 comment period may make advance arrangements as stated or may sign up at the meeting room prior to 1:00 p.m. on August 29. Written statements may be filed with the committee before or after the meeting by contacting Judy Keating at the address or telephone listed above. The Chair of the committee is empowered to conduct the meeting in a fashion that will facilitate the orderly conduct of business.

Minutes

The minutes of the meeting will be available for public review and copying at the Freedom of Information Reading Room, 1E-190, Forrestal Building, 1000 Independence Avenue, SW, Washington, D.C., between 9 a.m. and 4 p.m., Monday through Friday, except holidays and will also be made available on the following Internet address: www.eh.doe.gov/advocacy.

Issued in Washington, D.C. on August 1, 2001.
Rachel M. Samuel,
Deputy Advisory Committee Management Officer.

[FR Doc. 01-19721 Filed 8-6-01; 8:45 am]

BILLING CODE 6450-01-P